NATIONAL SCIENCE FOUNDATION

Sunshine Act Meetings

The National Science Board's Committee on National Science and Engineering Policy hereby gives notice of the scheduling of a teleconference for the transaction of National Science Board business as follows:

TIME AND DATE: Monday, April 25, 2022, from 12:00 p.m.-1:00 p.m. EDT.

PLACE: This meeting will be held by teleconference through the National Science Foundation.

STATUS: Open.

MATTERS TO BE CONSIDERED: The agenda of the teleconference is: Chair's opening remarks; update on Indicators 2022 cycle releases and cycle end; draft policy paper on economic contributions of international students and workers.

CONTACT PERSON FOR MORE INFORMATION: Point of contact for this meeting is: Chris Blair, cblair@nsf.gov, 703/292-7000. To watch this meeting on YouTube, use this link: https://youtu.be/pc_amWL2Q54. Updates and other meeting information may be found at the National Science Board website www.nsf.gov/nsb.

Chris Blair,
Executive Assistant to the National Science Board Office.

[FR Doc. 2022-08442 Filed 4-15-22; 4:15 pm]

BILLING CODE 7555-01-P